DEPARTMENT OF TRANSPORTATION

Federal Aviation Administration

14 CFR Part 91

[Docket No. FAA-2014-0708; Amendment No. 91-334; SFAR No. 114]

RIN 2120-AK61

Prohibition Against Certain Flights Within the Damascus (OSTT) Flight Information Region (FIR)

AGENCY: Federal Aviation Administration (FAA), DOT.

ACTION: Immediately adopted final rule.

SUMMARY: This action prohibits certain flight operations in the Damascus (OSTT) Flight Information Region (FIR) by all U.S. air carriers; U.S. commercial operators; persons exercising the privileges of a U.S. airman certificate, except when such persons are operating a U.S.-registered aircraft for a foreign air carrier; and operators of U.S.-registered civil aircraft, except when such operators are foreign air carriers. The FAA previously prohibited such flight operations in a Notice to Airmen (NOTAM) 4/4936, which was issued on August 18, 2014, and absent this rule, would have remained in effect until December 31, 2014. This Special Federal Aviation Regulation (SFAR) adopts the prohibitions currently in effect via the NOTAM, and requires compliance with the prohibitions for 2 years from the date of publication of this final rule, unless the FAA determines that it is necessary to amend or rescind this rule based on the situation in the region. The FAA finds that this action is necessary to address a potential hazard to persons and aircraft engaged in such flight operations.

DATES: This final rule is effective on December 30, 2014, and remains in effect through December 30, 2016.

FOR FURTHER INFORMATION CONTACT: For technical questions about this action, contact Will Gonzalez, Air Transportation Division, AFS-220, Flight Standards Service, Federal Aviation Administration, 800 Independence Avenue SW., Washington, DC 20591; telephone: 202-267-8166; email: will.gonzalez@faa.gov.

For legal questions concerning this action, contact: Robert Frenzel, Office of the Chief Counsel, AGC-200, Federal Aviation Administration, 800 Independence Avenue SW., Washington, DC 20591; telephone (202) 267-7638.

SUPPLEMENTARY INFORMATION:

Good Cause for Immediate Adoption

Section 553(b)(3)(B) of title 5, U.S. Code, authorizes agencies to dispense with notice and comment procedures for rules when the agency for “good cause” finds that those procedures are “impracticable, unnecessary, or contrary to the public interest.” In this instance, the FAA finds that notice and public comment to this immediately adopted final rule, as well as any delay in the effective date of this rule, are contrary to the public interest due to the immediate need to address the potential hazard to civil aviation that exists in the OSTT FIR, as described in the Background section of this final rule.

Authority for This Rulemaking

The FAA is responsible for the safety of flight in the United States and for the safety of U.S. civil operators, U.S.-registered civil aircraft, and U.S.-certificated airmen throughout the world. The FAA's authority to issue rules on aviation safety is found in title 49 of the U.S. Code. Subtitle I, section 106(f), describes the authority of the FAA Administrator. Subtitle VII of title 49, Aviation Programs, describes in more detail the scope of the agency's authority. Section 40101(d)(1) provides that the Administrator shall consider in the public interest, among other matters, assigning, maintaining, and enhancing safety and security as the highest priorities in air commerce. Section 40105(b)(1)(A) requires the Administrator to exercise his authority consistently with the obligations of the U.S. Government under international agreements.

This SFAR is promulgated under the authority described in Title 49, Subtitle VII, Part A, Subpart III, section 44701, General requirements. Under that section, the FAA is charged broadly with promoting safe flight of civil aircraft in air commerce by prescribing, among other things, regulations and minimum standards for practices, methods, and procedures that the Administrator finds necessary for safety in air commerce and national security. This regulation is within the scope of that authority because it prohibits certain flight operations in the OSTT FIR due to the potential hazard to persons and aircraft engaged in such flight operations that is described in the “Background” section of this final rule.

I. Overview of Immediately Adopted Final Rule

This action prohibits certain flight operations in the OSTT FIR, by all U.S. air carriers; U.S. commercial operators; persons exercising the privileges of a U.S. airman certificate, except when such persons are operating a U.S.-registered aircraft for a foreign air carrier; and operators of U.S.-registered civil aircraft, except when such operators are foreign air carriers. The FAA previously prohibited such flight operations in FDC NOTAM 4/4936, which was issued on August 18, 2014. This action incorporates that prohibition into the Code of Federal Regulations (CFR). The FAA finds this action necessary to address a potential hazard to persons and aircraft engaged in such flight operations, as described below.

II. Background

Due to the ongoing armed conflict and volatile security environment in Syria, the FAA has serious concerns regarding potential hazards to U.S. civil flight operations in the OSTT FIR. A number of armed extremist groups are known to be equipped with a variety of anti-aircraft weapons that have the capability to threaten civil aircraft. These groups have successfully shot down Syrian military aircraft and have previously warned civil air carriers against providing service to Syria. Due to the presence of these weapons, threats made by the extremist groups, and ongoing fighting throughout Syria involving various forms of weaponry used by various groups, as well as military fighter aircraft used by the Syrian Air Force, the FAA believes there is a significant threat to U.S. civil aviation operating in the OSTT FIR at any altitude.

On August 18, 2014, in response to the potentially hazardous situation created by the armed conflict in Syria, the FAA issued FDC NOTAM 4/4936, which prohibited flight operations in the OSTT FIR by all U.S. air carriers; U.S. commercial operators; persons exercising the privileges of a U.S. airman certificate, except when such persons are operating a U.S.-registered aircraft for a foreign air carrier; and operators of U.S.-registered civil aircraft, except when such operators are foreign air carriers. In addition, on September 23, 2014, the President announced that U.S. and allied forces had begun airstrikes against the Islamic State in Iraq and the Levant (ISIL) targets in Syria and that U.S. forces had also conducted airstrikes to disrupt plotting against the U.S. and its allies by the Khorasan Group. These airstrikes represent a further hazard to U.S. civil aviation operations in the OSTT FIR. This rulemaking incorporates the flight prohibition contained in FDC NOTAM 4/4936 into the CFR.

The FAA will continue to actively evaluate the situation to determine to what extent U.S. civil operators may be able to safely operate in the OSTT FIR. Amendments to this SFAR No. 114, § 91.1609, may be appropriate if the risk to aviation safety and security changes. Thus, the FAA may amend or rescind this SFAR No. 114, § 91.1609, as necessary prior to its expiration date.

Because the circumstances described herein warrant immediate action by the FAA, I find that notice and public comment under 5 U.S.C. 553(b)(3)(B) are impracticable and contrary to the public interest. Further, I find that good cause exists under 5 U.S.C. 553(d)(3) for making this rule effective immediately upon publication. I also find that this action is fully consistent with the obligations under 49 U.S.C. 40105 to ensure that I exercise my duties consistently with the obligations of the United States under international agreements.

Approval Based on Authorization Request of an Agency of the United States Government

If a department, agency, or instrumentality of the U.S. Government determines that it has a critical need to engage any person covered under this final rule, including any U.S. air carrier or U.S. commercial operator, to conduct a charter to transport civilian or military passengers or cargo, that department, agency, or instrumentality may request the FAA to approve persons covered under this SFAR No. 114, § 91.1609, to conduct such operations. An approval request must be made to the FAA in a letter signed by an appropriate senior official of the requesting department, agency, or instrumentality of the U.S. Government. The letter must be sent to the Associate Administrator for Aviation Safety (AVS-1), Federal Aviation Administration, 800 Independence Avenue SW., Washington, DC 20591. Electronic submissions are acceptable, and the requesting entity may request that the FAA notify it electronically as to whether the approval request is granted. If a requestor wishes to make an electronic submission to the FAA, the requestor should contact the Air Transportation Division, Flight Standards Service, at (202) 267-8166, to obtain the appropriate email address. A single letter may request approval from the FAA for multiple persons covered under this SFAR No. 114, § 91.1609 and/or for multiple flight operations. To the extent known, the letter must identify the person(s) expected to be covered under this SFAR No. 114, § 91.1609 and on whose behalf the U.S. Government department, agency, or instrumentality is seeking FAA approval to conduct operations in the OSTT FIR. The letter must describe—

• The proposed operation(s), including the nature of the mission being supported;

• The service to be provided by the person(s) covered by this SFAR No. 114, § 91.1609;

• To the extent known, the specific locations in the OSTT FIR where the proposed operation(s) will be conducted; and

• The method by which the department, agency, or instrumentality will provide, or how the operator will otherwise obtain, current threat information and an explanation of how the operator will integrate this information into all phases of its proposed operations (e.g., pre-mission planning and briefing, in-flight, and post-flight).

The request for approval must also include a list of operators with whom the U.S. Government department, agency, or instrumentality requesting FAA approval has a current contract(s), grant(s), or cooperative agreement(s) (or its prime contractor has a subcontract(s)) for specific flight operations in the OSTT FIR. Additionally, such operators may be identified to the FAA at any time after the FAA approval is issued. Updated lists should be sent to the email address to be obtained from the Air Transportation Division, (202) 267-8166.

If an approval request includes classified information, requestors may contact Aviation Safety Inspector Will Gonzalez for instructions on submitting it to the FAA. His contact information is listed in the FOR FURTHER INFORMATION CONTACT section of this final rule.

FAA approval of an operation under this SFAR No. 114, § 91.1609, does not relieve persons subject to this SFAR of their responsibility to comply with all applicable FAA rules and regulations. Operators of civil aircraft must comply with the conditions of their certificates and Operations Specifications (OpSpecs). Operators must also comply with all rules and regulations of other U.S. Government departments or agencies that may apply to the proposed operations, including, but not limited to, the Transportation Security Regulations issued by the Transportation Security Administration, Department of Homeland Security.

Approval Conditions

If the FAA approves the request, the FAA's Aviation Safety Organization (AVS) will send an approval letter to the requesting department, agency, or instrumentality informing it that the FAA's approval is subject to all of the following:

(1) Any approval will stipulate those procedures and conditions that limit, to the greatest degree possible, the risk to the operator, while still allowing the operator to achieve its operational objectives.

(2) Any approval will indicate that the operation is not eligible for coverage under any premium war risk insurance policy issued by the FAA under chapter 443 of title 49, U.S. Code.¹ Each such policy excludes coverage for any aircraft operations that are intentionally conducted into or within geographic areas prohibited by an SFAR, such as this SFAR No. 114, § 91.1609. The exclusion specified in the policy will remain in effect as long as this SFAR No. 114, § 91.1609, remains in effect, notwithstanding the issuance of any approval under, or exemption from, this SFAR No. 114, § 91.1609 (the chapter 443 premium war risk insurance policy refers to such approval as a “waiver” and such exemption as an “exclusion”).

¹ If and when, in connection with an operator's contract with a department, agency, or instrumentality of the U.S. Government, an operation is covered by a non-premium war risk insurance policy issued by FAA under 49 U.S.C. 44305, coverage under that operator's FAA premium war risk insurance policy is suspended as a condition contained in that premium policy.

(3) Before any approval takes effect, the operator must submit to the FAA a written release of the U.S. Government (including, but not limited to, the United States of America, as Insurer) from all damages, claims, and liabilities, including without limitation legal fees and expenses, and the operator's agreement to indemnify the U.S. Government (including, but not limited to, the United States of America, as Insurer) with respect to any and all third-party damages, claims, and liabilities, including without limitation legal fees and expenses, relating to any event arising from or related to the approved operations in the OSTT FIR. The release and agreement to indemnify do not preclude an operator from raising a claim under an applicable non-premium war risk insurance policy issued by the FAA under chapter 443.

(4) Other conditions that the FAA may specify, including those that may be imposed in OpSpecs.

If the proposed operation or operations is or are approved, the FAA will issue OpSpecs to the certificate holder authorizing the operation or operations, and will notify the department, agency, or instrumentality that requested FAA approval of civil flight operations to be conducted by one or more persons described in paragraph (a) of this SFAR No. 114, § 91.1609, of any additional conditions beyond those contained in the approval letter. The requesting department, agency, or instrumentality must have a contract, grant, or cooperative agreement (or its prime contractor must have a subcontract) with the person(s) described in paragraph (a) of this SFAR No. 114, § 91.1609, on whose behalf the department, agency, or instrumentality requests FAA approval.

Request for Exemptions

Any operation not conducted under the approval process set forth above must be conducted under an exemption from this SFAR No. 114, § 91.1609. A request by any person covered under this SFAR for an exemption must comply with 14 CFR part 11, and will require exceptional circumstances beyond those contemplated by the approval process set forth above. In addition to the information required by 14 CFR 11.81, the requestor must describe in its submission to the FAA, at a minimum—

• The proposed operation(s), including the nature of the operation;

• The service to be provided by the person(s) covered by this SFAR No. 114, § 91.1609;

• The specific locations in the OSTT FIR where the proposed operation(s) will be conducted; and

• The method by which the operator will obtain current threat information, and an explanation of how the operator will integrate this information into all phases of its proposed operations (e.g., the pre-mission planning and briefing, in-flight, and post-flight phases).

Additionally the release and agreement to indemnify, as referred to above, will be required as a condition of any exemption issued under this SFAR No. 114, § 91.1609. The FAA recognizes that operations that may be affected by this SFAR No. 114, § 91.1609, may be planned for the governments of other countries with the support of the U.S. Government. While these operations will not be permitted through the approval process, the FAA will process exemption requests for such operations on an expedited basis and prior to processing any private exemption requests.

III. Regulatory Evaluation, Regulatory Flexibility Determination, International Trade Impact Assessment, and Unfunded Mandates Assessment

Changes to Federal regulations must undergo several economic analyses. First, Executive Orders 12866 and 13563 direct that each Federal agency shall propose or adopt a regulation only upon a reasoned determination that the benefits of the intended regulation justify its costs. Second, the Regulatory Flexibility Act of 1980 (Public Law 96-354), as codified in 5 U.S.C. 601 et seq., requires agencies to analyze the economic impact of regulatory changes on small entities. Third, the Trade Agreements Act of 1979 (Public Law 96-39, as amended, 19 U.S.C. Chapter 13), prohibits agencies from setting standards that create unnecessary obstacles to the foreign commerce of the United States. In developing U.S. standards, the Trade Agreements Act requires agencies to consider international standards and, where appropriate, that they be the basis of U.S. standards. Fourth, the Unfunded Mandates Reform Act of 1995 (Public Law 104-4), requires agencies to prepare a written assessment of the costs, benefits, and other effects of proposed or final rules that include a Federal mandate likely to result in the expenditure by State, local, or tribal governments, in the aggregate, or by the private sector, of $100 million or more annually (adjusted for inflation with a base year of 1995). This portion of the preamble summarizes the FAA's analysis of the economic impacts of this final rule.

Department of Transportation (DOT) Order 2100.5 prescribes policies and procedures for simplification, analysis, and review of regulations. If the expected cost is so minimal that a proposed or final rule does not warrant a full evaluation, this order permits that a statement to that effect and the basis for it to be included in the preamble if a full regulatory evaluation of the cost and benefits is not prepared. Such a determination has been made for this final rule. The reasoning for this determination follows.

This SFAR No. 114, § 91.1609, prohibits flight operations by persons described in paragraph (a) in the OSTT FIR due to the significant hazards to civil aviation described in the Background section of this preamble. This regulation incorporates the prohibition on flight operations originally issued by the FAA in FDC NOTAM 4/4936 into the CFR. The U.S. Department of the Treasury's Office of Foreign Assets Control (OFAC) prohibits, except as otherwise authorized, the exportation, re-exportation, sale, or supply, directly or indirectly, from the United States, or by a United States person, wherever located, of any services to Syria. See 31 CFR 542.207. Consequently, the FAA assumes that, immediately prior to the issuance of FDC NOTAM 4/4936 on August 18, 2014, there were few, if any, persons who would be subject to paragraph (a) of SFAR No. 114, § 91.1609, flying into and out of Syria. OFAC's Syrian Sanctions Regulations (31 CFR part 542) do not prohibit overflights of Syria. The FAA surveyed U.S. operators of large transport category airplanes (four part 121 operators and two part 125M operators) who had previously reported conducting regular overflights in the OSTT FIR. All six operators recently reported that they had voluntarily ended their OSTT FIR overflights in March 2011 due to the onset of hostilities in Syria. Thus, these six operators ceased their operations in the OSTT FIR before the FAA issued FDC NOTAM 4/4936 on August 18, 2014. Approximately 15 “on-demand” large carriers (part 121 and part 121/135) previously indicated that they had performed overflights in the OSTT FIR and about 75 small “on-demand” operators (parts 135, 125, 125M, and 91K) previously indicated that they had flown into and out of Syria or conducted overflights in the OSTT FIR. However, because of the OFAC sanctions and the ongoing conflict, the FAA believes that few, if any, of these small operators were operating in the OSTT FIR immediately prior to the issuance of FDC NOTAM 4/4936 on August 18, 2014. Accordingly, the incremental costs of this rule are minimal.

In conducting these analyses, FAA has determined this final rule is a “significant regulatory action,” as defined in section 3(f) of Executive Order 12866, because it raises novel policy issues contemplated under that Executive Order. The rule is also “significant” as defined in DOT's Regulatory Policies and Procedures. The final rule, if adopted, will not have a significant economic impact on a substantial number of small entities, will not create unnecessary obstacles to international trade, and will not impose an unfunded mandate on state, local, or tribal governments, or on the private sector.

A. Regulatory Flexibility Analysis

The Regulatory Flexibility Act of 1980 (Pub. L. 96-354, “RFA”), 5 U.S.C. 601 et seq., establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA. However, if an agency determines that a rule is not expected to have a significant economic impact on a substantial number of small entities, RFA § 605(b) provides that the head of the agency may so certify and a regulatory flexibility analysis will not be required. The certification must include a statement providing the factual basis for this determination, and the reasoning should be clear.

As noted above, because of OFAC sanctions and the ongoing conflict, as well as the voluntary cessation of operations by large transport category carriers, the FAA believes that few, if any, small U.S. operators operated in the OSTT FIR prior to the issuance of FDC NOTAM 4/4936. The FAA believes all operators who are small entities do not intend to land or overfly Syria while this rule is in effect. Therefore, as provided in § 605(b), the head of the FAA certifies that this rulemaking will not result in a significant economic impact on a substantial number of small entities.

B. International Trade Impact Assessment

The Trade Agreements Act of 1979 (Pub. L. 96-39. 19 U.S.C. Chapter 13), as amended, prohibits Federal agencies from establishing standards or engaging in related activities that create unnecessary obstacles to the foreign commerce of the United States. Pursuant to this Act, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effect of this final rule and determined that its purpose is to protect the safety of U.S. civil aviation from a potential hazard outside the U.S. Therefore, the rule is in compliance with the Trade Agreements Act, as amended.

C. Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $151.0 million in lieu of $100 million. This final rule does not contain such a mandate; therefore, the requirements of Title II of the Act do not apply.

D. Paperwork Reduction Act

The Paperwork Reduction Act of 1995 (Pub. L. 104-13, 44 U.S.C. 3501 et seq.) requires that the FAA consider the impact of paperwork and other information collection burdens imposed on the public. The FAA has determined that there is no new requirement for information collection associated with this immediately adopted final rule.

E. International Compatibility and Cooperation

In keeping with U.S. obligations under the Convention on International Civil Aviation (the “Chicago Convention”), it is FAA policy to conform to International Civil Aviation (“ICAO”) Standards and Recommended Practices to the maximum extent practicable. The FAA has determined that there are no ICAO Standards and Recommended Practices that correspond to this proposed regulation.

F. Environmental Analysis

FAA Order 1050.1E identifies FAA actions that are categorically excluded from preparation of an environmental assessment or environmental impact statement under the National Environmental Policy Act (“NEPA”) (Pub. L. 91-190, 42 U.S.C. Chapter 55) in the absence of extraordinary circumstances. The FAA has determined this rulemaking action qualifies for the categorical exclusion identified in paragraph 312(f) of FAA Order 1050.1E, “Environmental Impacts: Policies and Procedures,” and involves no extraordinary circumstances.

The FAA has reviewed the implementation of the proposed SFAR and determined it is categorically excluded from further environmental review according to FAA Order 1050.1E, “Environmental Impacts: Policies and Procedures,” paragraph 312(f). The FAA has examined possible extraordinary circumstances and determined that no such circumstances exist. After careful and thorough consideration of the proposed action, the FAA finds that the proposed Federal action does not require preparation of an EA or EIS in accordance with the requirements of NEPA, Council on Environmental Quality regulations, and FAA Order 1050.1E.

IV. Executive Order Determinations

A. Executive Order 13132, “Federalism”

The FAA has analyzed this immediately adopted final rule under the principles and criteria of Executive Order 13132, “Federalism.” The agency has determined that this action will not have a substantial direct effect on the States, or the relationship between the Federal Government and the States, or on the distribution of power and responsibilities among the various levels of government, and, therefore, does not have Federalism implications.

B. Executive Order 13211, Regulations That Significantly Affect Energy Supply, Distribution, or Use

The FAA analyzed this immediately adopted final rule under Executive Order 13211, “Actions Concerning Regulations That Significantly Affect Energy Supply, Distribution, or Use” (May 18, 2001). The agency has determined that it is not a “significant energy action” under the executive order, and it is not likely to have a significant adverse effect on the supply, distribution, or use of energy.

C. Executive Order 13609, Promoting International Regulatory Cooperation

Executive Order 13609, Promoting International Regulatory Cooperation, (77 FR 26413, May 4, 2012) promotes international regulatory cooperation to meet shared challenges involving health, safety, labor, security, environmental, and other issues and to reduce, eliminate, or prevent unnecessary differences in regulatory requirements. The FAA has analyzed this action under the policies and agency responsibilities of Executive Order 13609, and has determined that this action would have no effect on international regulatory cooperation.

V. How To Obtain Additional Information

A. Rulemaking Documents

An electronic copy of a rulemaking document may be obtained by using the Internet—

1. Search the Federal Document Management System (FDMS) Portal (http://www.regulations.gov);

2. Visit the FAA's Regulations and Policies Web page: http://www.faa.gov/regulations_policies/; or

3. Access the Government Printing Office's Web page: http://www.gpo.gov/fdsys/.

Copies may also be obtained by sending a request (identified by notice, amendment, or docket number of this rulemaking) to the Federal Aviation Administration, Office of Rulemaking, ARM-1, 800 Independence Avenue SW., Washington, DC 20591, or by calling (202) 267-9680.

B. Small Business Regulatory Enforcement Fairness Act

The Small Business Regulatory Enforcement Fairness Act of 1996 (SBREFA) (Public Law 104-121) (set forth as a note to 5 U.S.C. 601), as amended, requires FAA to comply with small entity requests for information or advice about compliance with statutes and regulations within its jurisdiction. A small entity with questions regarding this document may contact its local FAA official, or the person listed under the “For Further Information Contact” section at the beginning of the preamble. You can find out more about SBREFA on the Internet at: http://www.faa.gov/regulations_policies/rulemaking/sbre_act/.

List of Subjects in 14 CFR Part 91

Air traffic control, Aircraft, Airmen, Airports, Aviation safety, Freight, Syria.

The Amendment

In consideration of the foregoing, the Federal Aviation Administration amends chapter I of Title 14, Code of Federal Regulations, as follows:

PART 91—GENERAL OPERATING AND FLIGHT RULES

1. The authority citation for part 91 continues to read as follows:

Authority: 49 U.S.C. 106(f), 106(g), 1155, 40101, 40103, 40105, 40113, 40120, 44101, 44111, 44701, 44704, 44709, 44711, 44712, 44715, 44716, 44717, 44722, 46306, 46315, 46316, 46504, 46506-46507, 47122, 47508, 47528-47531, 47534, articles 12 and 29 of the Convention on International Civil Aviation (61 Stat. 1180), (126 Stat. 11).

2. In part 91, Subpart M, add new § 91.1609, to read as follows:

§ 91.1609 Special Federal Aviation Regulation No. 114—Prohibition Against Certain Flights in the Damascus (OSTT) Flight Information Region (FIR).

(a) Applicability. This rule applies to the following persons:

(1) All U.S. air carriers and U.S. commercial operators;

(2) All persons exercising the privileges of an airman certificate issued by the FAA, except such persons operating U.S.-registered aircraft for a foreign air carrier; and

(3) All operators of aircraft registered in the United States, except where the operator of such aircraft is a foreign air carrier.

(b) Flight prohibition. No person may conduct flight operations in the Damascus (OSTT) Flight Information Region (FIR), except as provided in paragraphs (c) and (d) of this section.

(c) Permitted operations. This section does not prohibit persons described in paragraph (a) of this section from conducting flight operations in the Damascus (OSTT) FIR, provided that such flight operations are conducted under a contract, grant, or cooperative agreement with a department, agency, or instrumentality of the U.S. government (or under a subcontract between the prime contractor of the department, agency, or instrumentality, and the person described in paragraph (a)), with FAA approval, or under an exemption issued by the FAA. The FAA will process requests for approval or exemption in a timely manner, with the order of preference being: first, for those operations in support of U.S. government-sponsored activities; second, for those operations in support of government-sponsored activities of a foreign country with the support of a U.S. government department, agency, or instrumentality; and third, for all other operations.

(d) Emergency situations. In an emergency that requires immediate decision and action for the safety of the flight, the pilot in command of an aircraft may deviate from this section to the extent required by that emergency. Except for U.S. air carriers and commercial operators that are subject to the requirements of parts 119, 121, 125, or 135 of this chapter, each person who deviates from this section must, within ten (10) days of the deviation, excluding Saturdays, Sundays, and Federal holidays, submit to the nearest FAA Flight Standards District Office (FSDO) a complete report of the operations of the aircraft involved in the deviation, including a description of the deviation and the reasons for it.

(e) Expiration. This SFAR will remain in effect until December 30, 2016. The FAA may amend, rescind, or extend this SFAR No. 114, § 91.1609, as necessary.

Issued under authority provided by 49 U.S.C. 106(f), 40101(d)(1), 40105(b)(1)(A), and 44701(a)(5), in Washington, DC, on December 19, 2014.
Michael P. Huerta,
Administrator.

[FR Doc. 2014-30377 Filed 12-29-14; 8:45 am]

BILLING CODE 4910-13-P